ENVIRONMENTAL PROTECTION AGENCY

[FRL-8243-7]

2007 Blue Ribbon Water Quality Trading Awards—Call for Nominations

AGENCY: Environmental Protection Agency (EPA).

ACTION: Notice.

SUMMARY: This notice announces the initiation of an EPA recognition and leadership program for excellence in water quality trading, “Blue Ribbon Water Quality Trading Awards,” and solicits nominations for possible award to water quality trading programs and policies which have achieved or are expected to achieve environmental and economic benefits. Blue Ribbon Water Quality Trading Awards will encourage and recognize exemplary water quality trading programs and policies. This recognition program will enable EPA to identify successful and innovative water quality trading programs and policies that most closely align with U.S. EPA's Water Quality Trading Policy and cooperate with those programs in order to prevent, reduce, and eliminate water pollution. This program will also help EPA promote water quality trading and create a network of water quality trading leaders throughout the country.

DATES: Nominations must be received by 5 p.m. Eastern Standard Time on Tuesday, January 16, 2007. Nominations received after this deadline will not be considered.

ADDRESSES: Blue Ribbon Water Quality Trading Awards; ATTN: Chris Lewicki; U.S. EPA; Office of Wetlands, Oceans and Watersheds; Assessment and Watershed Protection Division; Room 7303K; Mail Code 4503-T; 1301 Constitution Avenue, NW.; Washington, DC 20004; telephone 202-566-1293.

Nominations must be submitted by express mail, courier service, or hand delivery to the address in this section.

FOR FURTHER INFORMATION CONTACT: Chris Lewicki; U.S. EPA; Office of Wetlands, Oceans and Watersheds; Assessment and Watershed Protection Division; Room 7303K; Mail Code 4503-T; 1301 Constitution Avenue, NW.; Washington, DC 20004; telephone 202-566-1293; e-mail lewicki.chris@epa.gov. Additional information on water quality trading is available at: http://www.epa.gov/waterqualitytrading.

I. Background

Water quality trading is an innovative approach to achieve water quality goals more efficiently. Trading is based on the fact that sources in a watershed can face very different costs to control the same pollutant. Trading programs allow facilities facing higher pollutant control costs to meet their regulatory obligations by purchasing environmentally equivalent (or superior) pollutant reductions from another source at lower cost, thus achieving the same water quality improvement at lower overall cost. This recognition program will enable EPA to identify successful water quality trading programs and policies that most closely align with U.S. EPA's Water Quality Trading Policy and cooperate with those programs in order to prevent, reduce, and eliminate water pollution. This program will also help EPA promote water quality trading and create a network of water quality trading leaders throughout the country.

II. Award Information

From the nominations submitted to EPA's Blue Ribbon Water Quality Trading Awards, EPA will select those programs and policies that best meet the evaluation criteria described below. EPA will recognize those programs and policies that are selected as leaders in the field of water quality trading.

III. Eligible Applicants

Nominations for a Blue Ribbon Water Quality Trading Award must be for water quality trading programs or policies that have been, are being, or will be implemented in the United States, and may be either self-nominated or nominated by a third party. The following sectors are encouraged to apply: Corporations; industry; individuals; non-governmental organizations and other associations; institutions; and local, state, and tribal governments. In order to be considered for recognition, nominations must have a satisfactory compliance record with respect to environmental regulations and requirements.

IV. Evaluation Criteria

Recognition will be given based on the following evaluation criteria: (1) Actual or anticipated environmental improvement; (2) actual or anticipated economic benefits; (3) transparency of trades; (4) accountability of meeting National Pollutant Discharge Elimination System (NPDES) permit limits; (5) accounting for the fate and transport of the pollutant and the possible different forms of the pollutant being traded in the design of a pollutant credit; (6) mechanisms for managing uncertainty of non-point source pollutant credits (this criterion will apply only for those programs or policies that include trading with non-point sources of pollutants); (7) stakeholder involvement; and (8) actual or anticipated evaluation of the trading program or policy.

V. Selection Process

Nominations will be judged according to the evaluation criteria (see Section IV) by a panel of national water quality trading experts. The panelists will provide recommendations to EPA, who will then consider the expert panel's recommendations when making the final selections. In addition to the expert panel's recommendations, EPA may also consider additional factors in making its final selection such as diversity of programs and policies. EPA reserves the right to contact nominees for additional information should it be deemed necessary.

VI. Nomination Submission Information

A. Content of Nomination Package

Each nomination must include all the information listed below.

(1) Contact information: (a) Name of water quality trading program or policy being nominated; (b) Name of the organization(s) responsible for creating the water quality trading program or policy; (c) Name, telephone number, postal address, and e-mail of person to contact with questions regarding the nomination; and (2) A description of the water quality trading program or policy and how it addresses the evaluation criteria (see Section IV).

B. Form of Nomination Package

Nominations should not exceed 20 double-spaced pages in length of 12 point font (including all tables, timelines, charts, graphs, maps, pictures, and all other supporting materials). Nominations that exceed the 20 double-spaced page limit will not be considered. Send two printed hard-copies of the nomination and two compact discs (CDs) with the nomination in a Microsoft Word (.doc) format to the address as provided in the ADDRESSES section of this notice.

VII. Award Notice

EPA anticipates announcing its selections in the spring or summer of 2007. EPA will mail letters to all nominees and any third parties that made nominations indicating whether or not the water quality trading program or policy that was submitted for nomination was selected for recognition in EPA's 2007 Blue Ribbon Water Quality Trading Awards.

Dated: November 13, 2006.
Benjamin H. Grumbles,
Assistant Administrator for Water.

[FR Doc. E6-19556 Filed 11-17-06; 8:45 am]

BILLING CODE 6560-50-P